DEPARTMENT OF THE INTERIOR

Bureau of Indian Affairs

Notice of Intent To Prepare an Environmental Impact Statement for the Proposed Community Development on the Las Vegas Paiute Indian Tribe Reservation, Clark County, NV

AGENCY: Bureau of Indian Affairs, Interior.

ACTION: Notice.

SUMMARY: This notice advises the public that the Bureau of Indian Affairs (BIA), in cooperation with the Las Vegas Paiute Indian Tribe (Tribe), the Environmental Protection Agency (EPA), the U.S. Army Corps of Engineers (USACE), and the Bureau of Land Management (BLM), intends to gather information necessary for preparing an Environmental Impact Statement (EIS). The proposed Federal actions by the BIA and cooperating agencies include approval of a lease, issuance of rights-of-way grants, permits, and/or other agreements between Federal agencies, the Tribe and the LasCal Development Group, LLC (LasCal Development) for the construction, operation and maintenance of residential and commercial development, as well as the necessary infrastructure, on the Las Vegas Paiute Indian Reservation (Reservation) in Clark County, Nevada. The purpose of this project is to provide an expanded economic base for the Tribe while simultaneously providing needed housing for tribal and non-tribal members in the greater Las Vegas area. This notice also announces two public scoping meetings to identify potential issues and alternatives for inclusion in the EIS.

DATES: Written comments on the scope and implementation of this proposal must arrive by May 30, 2006. The public scoping meetings will be held on Monday, May 15, 2006, and Tuesday, May 16, 2006. Both meetings will begin at 6:30 p.m. and continue until 8:30 p.m. (local time), or until the last public comments are received.

ADDRESSES: You may mail, hand carry, or telefax written comments to either (1) Amy L. Heuslein, Regional Environmental Protection Officer, BIA, Western Regional Office, P.O. Box 10, located at 400 North Fifth Street, 14th Floor, Phoenix, Arizona 85001, Telefax (602) 379-3833; or (2) Paul Schlafly, Natural Resource Specialist, BIA, Southern Paiute Agency, 180 North 200 East Suite #111, St. George, Utah 84771, Telefax (435) 674-9714. Comments may also be submitted via e-mail to the following address: comments@lvpaiuteeis.com.

The May 15, 2006, public scoping meeting will be held at the BLM Field Office, 4701 North Torrey Pines Drive, Las Vegas, Nevada. The May 16, 2006, public scoping meeting will be held at the Las Vegas Paiute Community Center, 1 Paiute Drive, Las Vegas, Nevada.

FOR FURTHER INFORMATION CONTACT: Amy Heuslein, (602) 379-6750, or Paul Schlafly, (435) 674-9720.

SUPPLEMENTARY INFORMATION: The EIS will assess the environmental consequences of proposed federal actions encompassing the proposed project components described below. The federal actions that may be required are as follows: (1) BIA approval of a 99-year lease between LasCal Development and the Tribe, and of rights-of-way grants, permits and/or other agreements, as appropriate; (2) BLM issuance of leases and rights-of-way grants for infrastructure components adjacent to the project area; (3) USACE issuance of Clean Water Act permits; and (4) EPA issuance of Clean Water Act permits. The proposed project area is located in the central portion of the Reservation in Sections 25, 26, 27, 34, 35, and 36 of Township 19 South, Range 59 East, Mount Diablo Meridian, in Clark County, approximately 15 miles northwest of Las Vegas, Nevada. The Las Vegas Paiute Golf Resort currently occupies approximately 700 acres in the eastern portion of the Reservation.

The proposed lease property consists of approximately 2,000 acres of the total of 3,200 developable acres on either side of U.S. Highway 95 (US95), which diagonally bisects the property. LasCal Development would construct a mixed residential and commercial development on this property. The development would potentially serve an estimated population of 12,500 to 25,000 people. Operation and maintenance of the proposed project facilities would be managed by the following entities: Nevada Power, Las Vegas Valley Water District, Southwest Gas, Sprint Communications, Cox Cable, the City of Las Vegas, and the Las Vegas Paiute Snow Mountain Recreation Group. LasCal Development would provide construction and reclamation bonds suitable to both the BIA and the Tribe.

The proposed project includes residential housing, commercial retail and office space, a casino with 75,000-square feet of gaming space, tribal and non-tribal housing, two elementary schools, one middle school, maintenance facilities, parks, recreational trails, roadways, utility rights-of-way and open space corridors. The proposed project would be developed in at least two phases. Phase I would include the project area located to the east of US95. Phase II would include the project area to the west of US95.

Infrastructure development would include the construction of a new highway interchange, storm water conveyance system, internal roadways, as well as connections to existing electrical, natural gas, water, and sewage facilities. The new highway interchange on US95 would be located in the southeast portion of the project area. Internal roadways in the project area would consist of six-lane collector roads, four-lane residential roads, and two-lane residential roads connected to surrounding existing roadways.

Utilities, including natural gas, water and sewage facilities, would be developed in coordination with roadway infrastructure development to the extent possible and would be connected to existing utilities located adjacent to the proposed project area. Water for construction and operation of the development would be obtained from three separate water pressure zones extending from the existing Las Vegas Valley Water District infrastructure. Electricity for Phase I of development would be supplied by the Nevada Power Company Northwest Substation. Electricity for Phase II of development would be supplied by the Nevada Power Company Snow Mountain Substation. Relocation of an existing power line easement would occur as a separate action. The storm water conveyance system would be constructed along the entire length of the proposed project area's western and southern boundaries, which is located up gradient from the entire project area. Within the project area, onsite storm drainage would be constructed in coordination with roadway infrastructure development.

Alternatives to the proposed action, including the no action alternative, will be analyzed in the EIS. Possible action alternatives could include plans with differing building densities and layouts, a no casino alternative, and an alternative that maximizes environmental protection using the following principles: Mixed land uses; compact building designs; a range of housing opportunities and choices; walkable neighborhoods with a variety of transportation options; distinctive, attractive communities with a strong sense of place; and preservation of open space, natural beauty and critical environmental areas.

Resource concerns to be addressed in this EIS would include, but not be limited to, air quality, geology and soils, surface and groundwater resources, biological resources including threatened and endangered species, noxious weeds, migratory birds, cultural resources, socioeconomic conditions, land use, aesthetics or visual resources, environmental justice and Indian trust resources. The range of issues and alternatives to be addressed in the EIS may be expanded or reduced, based on written comments received in response to this notice and at the public scoping meetings.

Public Comment Availability

Comments, including names and addresses of respondents, will be available for public review at the mailing addresses shown in the ADDRESSES section during regular business hours, 8 a.m. to 4:30 p.m., Monday through Friday, except holidays. Individual respondents may request confidentiality. If you wish BIA to withhold your name and/or address from public review or from disclosure under the Freedom of Information Act, you must state this prominently at the beginning of your written comment. Such requests will be honored to the extent allowed by law. BIA will not, however, consider anonymous comments. All submissions from organizations or businesses and from individuals identifying themselves as representatives or officials of organizations or businesses will be made available for public inspection in their entirety.

Authority

This notice is published in accordance with § 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.l.

Dated: April 3, 2006.
Michael D. Olsen,
Acting Principal Deputy Assistant Secretary—Indian Affairs.

[FR Doc. E6-6105 Filed 4-21-06; 8:45 am]

BILLING CODE 4310-W7-P